DEPARTMENT OF AGRICULTURE

Commodity Credit Corporation

Rural Business-Cooperative Service

Notice of Funds Availability for the Higher Blends Infrastructure Incentive Program (HBIIP) for Fiscal Year 2020 and Solicitation of Applications for the Higher Blends Infrastructure Incentive Program (HBIIP) for Fiscal Year 2020; Correction

AGENCY: Commodity Credit Corporation and the Rural Business-Cooperative Service, USDA.

ACTION: Notice; correction.

SUMMARY: The Commodity Credit Corporation and the Rural Business-Cooperative Service, USDA published a notice in the Federal Register on May 5, 2020 regarding the Notice of Funds Availability for the Higher Blends Infrastructure Incentive Program (HBIIP) for Fiscal Year 2020 and a notice on May 15, 2020, regarding the Solicitation of Applications for the Higher Blends Infrastructure Incentive Program (HBIIP) for Fiscal Year 2020 announcing the opening date for the application window. These documents referenced an incorrect program name in the DATES section of both notices.

FOR FURTHER INFORMATION CONTACT: Anthony Crooks: Telephone (202) 205-9322, email: EnergyPrograms@usda.gov. Persons with disabilities that require alternative means for communication should contact the U.S. Department of Agriculture (USDA) Target Center at (202) 720-2600 (voice).

SUPPLEMENTARY INFORMATION:

Correction

(1) In the Federal Register of May 5, 2020, in FR Doc. 2020-09685, on page 26657, in the first column, correct the DATES caption to read:

DATES: The Agency will finalize the application window for enrollment in the Higher Blends Infrastructure Incentive Program by future notice in the Federal Register and Grants.gov subject to the opening of the electronic application system.

(2) In the Federal Register of May 15, 2020, in FR Doc. 2020-10487, on page 29394, in the third column, correct the DATES caption to read:

DATES: Applications for the Higher Blends Infrastructure Incentive Program will be accepted from May 15, 2020 through August 13, 2020. Applications received after 11:59 p.m. Eastern Daylight Time on August 13, 2020, will not be considered. The grant period is not to exceed 18-months, unless otherwise specified in the Grant Agreement or agreed to by CCC.

Robert Stephenson,
Executive Vice President, Commodity Credit Corporation.
Mark Brodziski,
Acting Administrator, Rural Business-Cooperative Service.

[FR Doc. 2020-11977 Filed 6-2-20; 8:45 am]

BILLING CODE P